DEPARTMENT OF THE INTERIOR

Bureau of Reclamation

Cachuma Lake Resource Management Plan, Santa Barbara County, CA

AGENCY: Bureau of Reclamation, Interior.

ACTION: Notice of intent to prepare a draft environmental impact statement (EIS).

SUMMARY: Pursuant to section 102(2) (c) of the National Environmental Policy Act (NEPA), the Bureau of Reclamation (Reclamation) proposes to prepare a draft environmental impact statement (DEIS) for the Cachuma Lake Resource Management Plan (RMP). The RMP will be issued concurrent with the DEIS. Reclamation will be conducting a public scoping meeting to elicit comments on the scope and issues to be addressed in both the RMP and the DEIS. The date and time of the meeting is listed below. Reclamation is also seeking written comments, as noted below. The Draft RMP and DEIS are expected to be issued in late 2002.

DATES: The scoping meeting will be held on Wednesday, May 1, 2002 at 7 p.m. in Goleta, California.

Written comments on the scope of alternatives and impacts to be considered should be sent to Reclamation at the address below by May 15, 2002.

ADDRESSES: The meeting location is at the Goleta Community Center, 5679 Hollister Avenue, Goleta, California.

Written comments should be sent to Mr. Dan Holsapple, Bureau of Reclamation, South-Central California Area Office, 1243 N Street, Fresno, CA 93721-1813; or by telephone at (559) 487-5409; or faxed to (559) 487-5130 (TDD 559-487-5933).

FOR FURTHER INFORMATION CONTACT: Mr. Dan Holsapple, Bureau of Reclamation, at the above address, telephone: (559) 487-5409.

SUPPLEMENTARY INFORMATION: The Cachuma Project is located along the Santa Ynez River in northern Santa Barbara County, California. It was constructed in the early 1950's by Reclamation under contract with Santa Barbara County Water Agency on behalf of local water purveyors, called the Cachuma Member Units. The project consists of Bradbury Dam, Cachuma Lake, and associated conveyance facilities. The lake is about 3,000 acres in size, surrounded by about 6,500 acres of Federal land. The project is the primary water supply for the communities of Santa Ynez, Santa Barbara, Goleta, Carpinteria, and Montecito. Reclamation executed a contract with Santa Barbara County (County) in 1953 to manage recreation at the lake. The County has developed a 375-acre recreation area on the south shore of the lake with picnicking, boating, hiking, and camping.

Reclamation is preparing an RMP for the Cachuma Project. The RMP will specifically address the County recreation area, including the entire lake and all Government land surrounding the lake. The objective of an RMP is to establish management objectives, guidelines, and actions to be implemented by Reclamation directly, or through its recreation contract, that will protect the water supply and water quality functions of Cachuma Lake; protect and enhance natural and cultural resources in the Recreation Area, consistent with Federal law and Reclamation policies; and provide recreational opportunities and facilities consistent with the Cachuma Project purposes and Reclamation policies.

The development of the RMP will be performed within the authorities provided by the Congress through the Reclamation Act, Federal Water Project Recreation Act, Reclamation Recreation Management Act, and applicable agency and Department of the Interior policies.

The RMP will be developed based on a comprehensive inventory of environmental resources and Project facilities. It will include an analysis of all resources in the area, identification of land use suitability and capability, and development of management policies, objectives, responsibilities, guidelines, and plans. The overall purpose of an RMP is to foster stewardship of Reclamation lands. The RMP will enable managers to make land use and resource decisions that are consistent with the overall management objectives of Reclamation land and water areas, while meeting the needs of the public. The RMP will assist Reclamation in its efforts to minimize conflicts among the competing interests and types of use at Cachuma Lake.

The plan will be developed with input from other Federal agencies such as the U.S. Fish and Wildlife Service and the U.S. Forest Service, local involved agencies such as Santa Barbara County Parks and Recreation Department and the Cachuma Operations and Maintenance Board (representing the Project Member Units); and the general public. The plan will also be used to guide future recreational uses and administrative arrangements to be considered by Reclamation in its renewal of the recreation contract with Santa Barbara County, in a separate but related process.

The primary emphasis of the RMP will be protecting Cachuma Project water supplies, water quality, and natural resources, while enhancing recreational uses at and surrounding the lake. Specific issue areas to be addressed include (among others): recreational access to the north shore, body-contact recreation, protection of sensitive natural and cultural resources, and grazing practices.

The environmental impacts of the RMP and associated alternatives will be assessed in an EIS that will be prepared concurrent with the RMP. The environmental review will focus on the potential for management actions to cause adverse environmental impacts to natural and cultural resources such as water quality, endangered species, public safety, and historic resources. It will include an analysis of alternative land, recreation, and natural resource management approaches.

Our practice is to make comments, including names and home addresses of respondents, available for public review. Individual respondents may request that we withhold their home address from public disclosure, which we will honor to the extent allowable by law. There may also be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: February 28, 2002.
Frank Michny,
Regional Environmental Officer.

[FR Doc. 02-6381 Filed 3-15-02; 8:45 am]

BILLING CODE 4310-MN-P